SMALL BUSINESS ADMINISTRATION

[Disaster Declaration # 11281]

Indiana Disaster Number IN-00020

AGENCY: U.S. Small Business Administration.

ACTION: Amendment 5.

SUMMARY: This is an amendment of the Presidential declaration of a major disaster for Public Assistance Only for the State of Indiana (FEMA-1766-DR), dated 06/08/2008.

Incident: Severe Storms, Flooding, and Tornadoes.

Incident Period: 05/30/2008 through 06/27/2008.

Effective Date: 08/06/2008.

Physical Loan Application Deadline Date: 08/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Indiana, dated 06/08/2008, is hereby amended to include the following areas as adversely affected by the disaster.

Primary Counties:

Adams, Benton, Fountain, Gibson, Hendricks, Jay, Marion, Montgomery, Posey, Switzerland, Wabash.

All other information in the original declaration remains unchanged.

(Catalog of Federal Domestic Assistance Number 59008)

James E. Rivera,
Acting Associate Administrator for Disaster Assistance.

[FR Doc. E8-18912 Filed 8-14-08; 8:45 am]

BILLING CODE 8025-01-P